ENVIRONMENTAL PROTECTION AGENCY

[FRL-10022-14-Region 3]

Draft TMDL for Sediment in the Indian Creek Watershed in Montgomery County, Pennsylvania

AGENCY: Environmental Protection Agency (EPA).

ACTION: Notice; request for public comment.

SUMMARY: The Environmental Protection Agency (EPA) is publishing for public review and comment a draft total maximum daily load (TMDL) for sediment in the Indian Creek Watershed in Montgomery County, Pennsylvania pursuant to Section 303(d) of the Clean Water Act. To assist the public in their understanding of the draft TMDL and provide an overview of the TMDL process, EPA invites the public to attend a virtual public meeting. Section 303(d) of the Clean Water Act requires that each state identify those waters (called “water quality-limited segments”) for which existing technology-based pollution controls are not stringent enough to attain or maintain state water quality standards and for which total maximum daily loads (TMDLs) must be developed. A TMDL establishes a target for the total load of a particular pollutant that a waterbody can assimilate without exceeding water quality standards and divides that load into wasteload allocations, given to point sources, load allocations, given to nonpoint sources and natural background, and a margin of safety, which takes into account any uncertainty. TMDLs provide a framework to achieve water quality standards in a watershed and inform other federal and state programs of the necessary pollutant reductions needed by sources to achieve those standards. The draft TMDL report and information pertaining to the virtual public meeting is available from EPA Region 3's website at: https://www.epa.gov/tmdl/revised-sediment-tmdl-indian-creek-watershed-montgomery-county-pennsylvania.

DATES: Comments must be received on or before June 24, 2021. The public is welcomed to attend a virtual public meeting on June 8, 2021 from 1-2:30 p.m.

ADDRESSES: Comments on the draft TMDL must be received in writing and sent by electronic mail to Ms. Jillian Adair at adair.jillian@epa.gov or by mail to Ms. Jillian Adair, Water Division (3WD42), U.S. Environmental Protection Agency Region 3, 1650 Arch Street, Philadelphia, PA 19103-2029. Electronic mail submissions including body text and attachments are limited to 25 megabytes. In addition, EPA cannot receive electronic mail attachments in ZIP format (.zip). To attend the virtual public meeting, please use the weblink or conference line phone number provided at the above weblink in the SUMMARY.

FOR FURTHER INFORMATION CONTACT: Jillian Adair at adair.jillian@epa.gov or (215) 814-5713.

SUPPLEMENTARY INFORMATION: On June 30, 2008, EPA established a sediment TMDL for the Indian Creek Watershed. On October 17, 2011 a complaint was filed against EPA regarding the TMDL [Civil Action No. 2:11-cv-06489-CDJ (E.D.PA)]. EPA then agreed to reconsider the TMDL and investigate several concerns raised by the plaintiffs. On March 21, 2014, EPA issued a reconsideration document, which identified certain concerns that the reference watershed approach and sediment loading rates used should be revisited. The court granted EPA's request for a voluntary remand of the 2008 sediment TMDL on April 3, 2014. EPA subsequently solicited input to seek relevant data and feedback, including four stakeholder meetings from 2014 to 2018 as part of its efforts to develop a revised draft sediment TMDL. EPA considered the information and data that were submitted by various stakeholders as part of the TMDL development effort. That information can also be accessed at the above weblink in the SUMMARY.

Leslie Gillespie-Marthaler,
Deputy Director, Water Division, Region III.

[FR Doc. 2021-09762 Filed 5-7-21; 8:45 am]

BILLING CODE 6560-50-P